INTERNATIONAL TRADE COMMISSION

[Investigation No. 731-TA-747 (Fifth Review)

Fresh Tomatoes From Mexico; Termination of Five-Year Review

AGENCY: United States International Trade Commission.

ACTION: Notice.

SUMMARY: The Commission instituted the subject five-year review on August 1, 2024 to determine whether termination of the suspended antidumping duty investigation on fresh tomatoes from Mexico would be likely to lead to continuation or recurrence of material injury to a domestic industry. Effective July 14, 2025, the Department of Commerce (“Commerce”) withdrew from and terminated the 2019 Agreement Suspending the Antidumping Duty Investigation on Fresh Tomatoes from Mexico (“2019 Agreement”) and issued the antidumping duty order. On July 17, 2025, Commerce published notice in the Federal Register that it was withdrawing from and terminating the 2019 Agreement (90 FR 33363). Accordingly, since there is no longer a suspension agreement of which to conduct a five-year review, the Commission gives notice of the termination of its review involving fresh tomatoes from Mexico.

DATES: July 14, 2025 (effective date of revocation of the 2019 Agreement and issuance of the antidumping duty order).

FOR FURTHER INFORMATION CONTACT: Lawrence Jones (202-205-3358), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

Authority: This review is being terminated under authority of title VII of the Tariff Act of 1930 and pursuant to section 207.40(a) of the Commission's Rules of Practice and Procedure (19 CFR 207.40(a)). This notice is published pursuant to section 201.10 of the Commission's rules (19 CFR 201.10).

By order of the Commission.
Issued: July 25, 2025.
Susan Orndoff,
Secretary to the Commission.

[FR Doc. 2025-14386 Filed 7-29-25; 8:45 am]

BILLING CODE 7020-02-P